DEPARTMENT OF TRANSPORTATION

Federal Railroad Administration

Privacy Act of 1974: System of Records

AGENCY: Federal Railroad Administration, DOT.

ACTION: Notice to establish a system of records.

SUMMARY: DOT intends to establish a system of records under the Privacy Act of 1974.

DATES: Effective Date: July 31, 2006. If no comments are received, the proposal will become effective on the above date. If comments are received, the comments will be considered and, where adopted, the documents will be republished with changes.

FOR FURTHER INFORMATION CONTACT: Kara Spooner, Department of Transportation, Office of the Secretary, 400 7th Street, SW., Washington, DC 20590, (202) 366-1965 (telephone), (202) 366-7373 (fax), kara.spooner@dot.gov (Internet address).

SUPPLEMENTARY INFORMATION: The Department of Transportation system of records notice subject to the Privacy Act of 1974 (5 U.S.C. 552a), as amended, has been published in the Federal Register and is available from the above mentioned address.

DOT/FRA 132

System name:

Controlled Correspondence Manager (CCM).

Security classification:

Unclassified, sensitive.

System location:

Department of Transportation, Federal Railroad Administration (FRA), Office of Administration and Finance, Office of Information Technology, 1120 Vermont Ave., NW., Washington, DC 20590.

Categories of individuals covered by the system:

Individuals who write, or are referred in writing by a second party, to the Administrator, Deputy Administrator, Associate Administrators, and/or their immediate offices and staff. Individuals who are the subject of an action requiring approval or action by one of the forenamed, such as appeal actions, training, awards, foreign travel, promotions, selections, grievances, and discipline.

Categories of records in the system:

Correspondence submitted by or on behalf of an individual and responses to such correspondence; and one-time movement and waiver requests from regulations submitted by railroads.

Authority for maintenance of the system:

44 U.S.C. 3101.

Purpose(s):

The purpose of the system is to provide history and internal tracking of correspondence addressed to and signed by the Administrator, Deputy Administrator, Associate Administrators, and their immediate offices and corresponding staff. The system provides FRA with the ability to track correspondence, one-time movements, waivers, and train horn rule to ensure timely response to the individual, public, or organization.

Routine uses of records maintained in the system, including categories of users and the purposes of such uses:

Referral to the appropriate action office within the agency for preparation of a response. Referral to the appropriate agency for actions involving matters of law or regulation beyond the responsibility of the agency. See Prefatory Statement of General Routine Uses.

Disclosure to consumer reporting agencies:

None.

Policies and practices for storing, retrieving, accessing, retaining, and disposing of records in the system:

Storage:

All data about the record is stored in a database and corresponding attachments are stored on a file server.

Retrievability:

Records are retrieved by name or control number.

Safeguards:

Access to the system is limited to individuals responsible for responding or tracking correspondence and the system administrator through the use of user IDs and passwords. Physical access to the system and manual records is restricted through security guards and access badges to enter the facility where equipment and records are located.

Retention and disposal:

The office that owns the CCM records sets retention and disposal for the records. CCM is not an official record. The record owner keeps hard copy files of CCM records in accordance with National Archives and Records Administration (NARA) and agency record retention policies.

System manager(s) and address:

Department of Transportation, Federal Railroad Administration, Office of Administration and Finance, Office of Information Technology, 1120 Vermont Ave., NW., Mail Stop 35, Washington, DC 20590.

Notification procedure:

Individuals seeking to determine whether their information is contained within this system should address written inquiries to the Freedom of Information Act Coordinator, Office of Chief Counsel, Federal Railroad Administration, 1120 Vermont Ave., NW., Stop 10, Washington, DC 20590. Requests should include name, address and telephone number and describe the records you seek.

Record access procedures:

Individuals seeking access to records contained within this system can send their requests to the Freedom of Information Act Coordinator, Office of Chief Counsel, Federal Railroad Administration, 1120 Vermont Ave., NW., Stop 10, Washington, DC 20590. Requests should include name, address and telephone number and describe the records you seek.

Contesting record procedures:

Contact System Manager for information on procedures for contesting records at Department of Transportation, Federal Railroad Administration, Office of Administration and Finance, Office of Information Technology, 1120 Vermont Ave., NW., Mail Stop 35, Washington, DC 20590.

Record source categories:

Correspondence from an individual or his/her representative or sponsor; responses to incoming correspondence; and related material provided for background as appropriate.

Exemptions claimed for the system:

None.

Dated: June 15, 2006.
Kara Spooner,
Departmental Privacy Officer.

[FR Doc. E6-9733 Filed 6-20-06; 8:45 am]

BILLING CODE 4910-9X-P